DEPARTMENT OF HEALTH AND HUMAN SERVICES

Centers for Disease Control and Prevention

[30 Day-13-13IF]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

Pilot Project to Evaluate the Use of Exposure Control Plans for Bloodborne Pathogens in Private Dental Practices -New- National Institute for Occupational Safety and Health (NIOSH), Centers for Disease Control and Prevention (CDC).

Background and Brief Description

The Centers for Disease Control and Prevention (CDC) estimates that healthcare workers sustain nearly 600,000 percutaneous injuries annually involving contaminated sharps. In response to both the continued concern over such exposures and the technological developments which can increase employee protection, Congress passed the Needlestick Safety and Prevention Act directing the Occupational Safety and Health Administration (OSHA) to revise the Bloodborne Pathogens (BBP) Standard to establish requirements that employers identify and make use of effective and safer medical devices. That revision was published on Jan. 18, 2001, and became effective April 18, 2001.

The revision to OSHA's BBP Standard added new requirements for employers, including additions to the exposure control plan and maintenance of a sharps injury log. OSHA has determined that compliance with these standards significantly reduces the risk that workers will contract a bloodborne disease in the course of their work. However, exposure control plans for bloodborne pathogens, policies, and standards for healthcare workers are based primarily on hospital data.

Approximately one-half of the 11 million healthcare workers in the U.S. are employed in non-hospital settings, including physician offices, home healthcare agencies, correctional facilities, and dental offices and clinics. Little information is known about the risk management practices in these non-hospital settings. In a small study, the National Institute for Occupational Safety and Health (NIOSH) found that although seven of the eight correctional healthcare facilities visited had written exposure control plans, only two were reviewed and updated annually as required by the OSHA BBP Standard. One reason postulated for non-compliance was that hospital-based standards, policies, and programs may not be appropriate to non-hospital settings. It is important to identify effective methods for using exposure control plans in non-hospital settings and to verify whether the specificity and relevance of bloodborne pathogen training and educational materials for non-hospital facilities can positively impact compliance in dental settings. The purposes of this proposal are to insure that bloodborne pathogens exposure control plans are effectively implemented in private dental practices, an important segment of the non-hospital based healthcare system; and to understand how effective implementation strategies may be applied to other healthcare settings. The proposed work will draw on research-to-practice principles and will be assisted by a strong network of dental professional groups, trade associations, and government agencies. Specific objectives are to:

(1) Inventory existing exposure control plans in private dental practices;

(2) determine whether the exposure control plan or other resource is actively used to prevent occupational exposures;

(3) determine available resources and barriers to use such as relevant educational materials, knowledge, costs, availability; and

(4) develop strategies to overcome key barriers to compliance.

The Organization for Safety, Asepsis and Prevention (OSAP) is a unique group of dental educators and consultants, researchers, clinicians, industry representatives, and other interested persons with a collective mission to be the world's leading advocate for the safe and infection-free delivery of oral care. OSAP supports this commitment to dental workers and the public through quality education and information dissemination. OSAP's unique membership includes the variety of partners critical to gather the data on compliance with the OSHA bloodborne pathogens standard, to identify barriers and to develop strategies to overcome barriers to compliance.

OSAP will be conducting a web survey of private dental practices in the United States. Information collected will include: The use of existing exposure control plans; whether the plan or other resources actively used to prevent occupation exposure to bloodborne pathogens; availability of resources such as relevant education materials, and barriers to use such as knowledge, costs, and availability. OSAP is working with a publishing partner that has an email distribution list of 49,172 private practice dentists representing general dentists and specialists. This sampling frame represents nearly 30% of the total population of U.S. private practice dentists. The survey sample, totaling 40,575 dentists, will include general dentists, oral and maxillofacial surgeons, pediatric dentists and periodonists. The targeted number of completed questionnaires is estimated at about 20,287 (50% participation rate). The survey is estimated to take about 15 minutes for respondents to complete. There is no cost to respondents other than their time. The total estimated annualized burden hours are 5,072.

Estimated Annualized Burden Hours
Type of respondents | Form name | Number of respondents | Number of responses per respondent | Avgerage Burden per response (in hrs)
Private Practice Dentists | BBP Exposure Control Plan Survey | 20,287 | 1 | 15/60

Ron A. Otten,
Director, Office of Scientific Integrity, Office of the Associate Director for Science, Office of the Director, Centers for Disease Control and Prevention.

[FR Doc. 2013-18909 Filed 8-5-13; 8:45 am]

BILLING CODE 4163-18-P